DEPARTMENT OF HOMELAND SECURITY

Federal Emergency Management Agency

Agency Information Collection Activities: Proposed Collection; Comment Request

AGENCY: Federal Emergency Management Agency, Department of Homeland Security.

ACTION: Notice and request for comments.

SUMMARY: The Federal Emergency Management Agency, as part of its continuing effort to reduce paperwork and respondent burden, invites the general public and other Federal agencies to take this opportunity to comment on a proposed extension of a currently approved information collection. In accordance with the Paperwork Reduction Act of 1995, this notice seeks comments concerning a Governor's request for a major disaster or an emergency declaration by the President.

SUPPLEMENTARY INFORMATION: The Robert T. Stafford Disaster Relief and Emergency Assistance Act, 42 U.S.C. 5121-5206, as amended (the Stafford Act), requires that all requests for a major disaster or an emergency declaration by the President must be made by the Governor of the affected State. Section 401 of the Act stipulates specific information the Governor must submit with a request for any major disaster or emergency declaration. Section 501(a) of the Act stipulates specific information the Governor must submit with a request for any emergency declaration. Section 403(c) of the Act authorizes emergency assistance, without a Presidential declaration, through the utilization of Department of Defense personnel and resources. Information needed to process the request from the Governor is set forth in 44 CFR part 206.35 and 206.36.

Collection of Information

Title: The Declaration Process: Requests for Damage Assessment, Federal Disaster Assistance, Cost Share Adjustment, and Appeals.

Type of Information Collection: Extension of a currently approved collection.

OMB Number: 1660-0009.

Form Numbers: None.

Abstract: When a disaster occurs in a State, the Governor of the State or the Acting Governor in his/her absence, may request a major disaster declaration or an emergency declaration. The Governor should submit the request to the President through the appropriate Regional Director to ensure prompt acknowledgement and processing. The information obtained by joint Federal, State, and local preliminary damage assessments will be analyzed by FEMA regional senior level staff. The regional summary and the regional analysis and recommendation shall include a discussion of State and local resources and capabilities, and other assistance available to meet the disaster related needs. The Director of FEMA provides a recommendation to the President and also provides a copy of the Governor's request. In the event the information required by law is not contained in the request, the Governor's request cannot be processed and forwarded to the White House. In the event the Governor's request for a major disaster declaration or an emergency declaration is not granted, the Governor may appeal the decision.

Affected Public: State, local or tribal governments, and other Federal agencies.

Estimated Total Annual Burden Hours: 13,224.

Annual Burden Hours
Project/activity (survey, form(s), focus group, worksheet, etc.) | Number of respondents: (A) | Frequency of responses: (B) | Burden hours per respondent: (C) | Annual responses ¹): (A×B) | Total annual burden hours: (A×B×C)
Governor's Request | 58 | Per Request | 76 | 228 | 13,224
Total | 58 |  | 76 | 228 | 13,224
¹ Based on the number of disaster occurrences.

Estimated Cost: The estimated annualized cost per respondent is $30 per hour for gathering preliminary assessments information × 13,244 total burden hours = $397,320.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before April 18, 2006.

ADDRESSES: Interested persons should submit written comments to Chief, Records Management Section, Information Resources Management Branch, Information Technology Services Division, Federal Emergency Management Agency, 500 C Street, SW., Room 316, Washington, DC 20472.

FOR FURTHER INFORMATION CONTACT: Contact Magda Ruiz, Acting Branch Chief, Declarations Unit, Federal Emergency Management Agency, 500 C Street, SW., Washington, DC 20472, telephone number (202) 646-3629, for additional information. You may contact the Records Management Branch for copies of the proposed collection of information at facsimile number (202) 646-3347 or e-mail address: FEMA-Information-Collections@dhs.gov.

Dated: February 9, 2006.
Darcy Bingham,
Branch Chief, Information Resources Management Branch, Information Technology Services Division.

[FR Doc. E6-2315 Filed 2-16-06; 8:45 am]

BILLING CODE 9110-10-P